DEPARTMENT OF TRANSPORTATION

Federal Aviation Administration

14 CFR Part 39

[Docket No. FAA-2005-20438; Directorate Identifier 2005-CE-03-AD; Amendment 39-14147; AD 2005-13-10]

RIN 2120-AA64

Airworthiness Directives; Cessna Aircraft Company Models 172R, 172S, 182T, T182T, 206H, and T206H Airplanes

AGENCY: Federal Aviation Administration (FAA), DOT.

ACTION: Final rule.

SUMMARY: The FAA adopts a new airworthiness directive (AD) for certain Cessna Aircraft Company (Cessna) Models 172R, 172S, 182T, T182T, 206H, and T206H airplanes. This AD requires you to inspect any MC01-3A I.C. 9 or MC01-3A I.C. 10 main electrical power junction box circuit breakers for correct amperage (amp) (a correct 40-amp circuit breaker) and replace any incorrect amp circuit breaker with the correct 40-amp circuit breaker. This AD results from several reports of circuit breakers that are not the correct 40-amp circuit breaker installed in the MC01-3A main electrical power junction box. We are issuing this AD to replace any incorrect circuit breaker installed in the MC01-3A I.C. 9 or MC01-3A I.C. 10 main electrical power junction box, which could result in premature tripping of the power junction box main feeder circuit breakers and could lead to partial or complete loss of all electrical power on the airplane. This condition could lead to the loss of all navigation and communication equipment and lighting in the cockpit.

DATES: This AD becomes effective on August 9, 2005.

As of August 9, 2005, the Director of the Federal Register approved the incorporation by reference of certain publications listed in the regulation.

ADDRESSES: To get the service information identified in this AD, contact Cessna Aircraft Company, Product Support, P.O. Box 7706, Wichita, Kansas 67277; telephone: (316) 517-5800; facsimile: (316) 942-9006.

To view the AD docket, go to the Docket Management Facility; U.S. Department of Transportation, 400 Seventh Street, SW., Nassif Building, Room PL-401, Washington, DC 20590-001 or on the Internet at http://dms.dot.gov. The docket number is FAA-2005-20438; Directorate Identifier 2005-CE-03-AD.

FOR FURTHER INFORMATION CONTACT: Jose Flores, Aerospace Engineer, Wichita Aircraft Certification Office (ACO), FAA, 1801 Airport Road, Wichita, Kansas 67209; telephone: (316) 946-4133; facsimile: (316) 946-4107.

SUPPLEMENTARY INFORMATION:

Discussion

What events have caused this AD? Cessna has reported three cases of incorrect amperage (amp) circuit breakers installed in the MC01-3A I.C. 9 (part number (P/N) S3100-297) or MC01-3A I.C. 10 (P/N S3100-344) main electrical power junction box. The design of the main electrical power junction box requires 40-amp circuit breakers. Two of the three cases of incorrect circuit breakers were found in Cessna production and a third was found in Cessna spares.

What is the potential impact if FAA took no action? Any incorrect circuit breaker installed in the MC01-3A main electrical power junction box could result in premature tripping of the power junction box main feeder circuit breakers, which could lead to partial or complete loss of all electrical power on the airplane. This condition could lead to the loss of all navigation and communication equipment and lighting in the cockpit.

Has FAA taken any action to this point? We issued a proposal to amend part 39 of the Federal Aviation Regulations (14 CFR part 39) to include an AD that would apply to certain Cessna Aircraft Company (Cessna) Models 172R, 172S, 182T, T182T, 206H, and T206H airplanes. This proposal was published in the Federal Register as a notice of proposed rulemaking (NPRM) on March 17, 2005 (70 FR 12978). The NPRM proposed to require you to inspect any MC01-3A I.C. 9 or MC01-3A I.C. 10 main electrical power junction box circuit breakers for correct amperage (amp) (a correct 40-amp circuit breaker) and replace any incorrect amp circuit breaker with the correct 40-amp circuit breaker.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Docket Information

Where can I go to view the docket information? You may view the AD docket that contains information relating to this subject in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 778 airplanes in the U.S. registry.

What is the cost impact of this AD on owners/operators of the affected airplanes? We estimate the following costs to do the inspection:

Labor cost | Parts cost | Total cost per airplane | Total cost on U.S. operators
1 work hour × $65 = $65 | None | $65 | 778 × $65 = $50,570.

We estimate the following costs to do any necessary replacements that would be required based on the results of this inspection. We have no way of determining the number of airplanes that may need this replacement:

Labor cost | Parts cost | Total cost per airplane
1 work hour × $65 = $65 | $40 | $105

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the National Government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-20438; Directorate Identifier 2005-CE-03-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-13-10 Cessna Aircraft Company: Amendment 39-14147; Docket No. FAA-2005-20438; Directorate Identifier 2005-CE-03-AD.

When Does This AD Become Effective?

(a) This AD becomes effective on August 9, 2005.

What Other ADs Are Affected by This Action?

(b) None.

What Airplanes Are Affected by This AD?

(c) This AD affects the following airplane models and serial numbers that are certificated in any category:

Model | Serial Nos.
172R | 17281186 through 17281232.
172S | 172S9476 through 172S9689, and 172S9691 through 172S9770.
182T | 18281242 through 18281502, 18281506, and 18281507.
T182T | T18208212 through T18208357.
206H | 20608195 through 20608223, 20608225, and 20608226.
T206H | T20608410 through T20608475, T20608477 through T20608501, T20608503, and T20608506.

What Is the Unsafe Condition Presented in This AD?

(d) This AD is the result of several reports of circuit breakers that are not the correct 40-amp circuit breaker installed in the MC01-3A I.C. 9 or MC01-3A I.C. 10 main electrical power junction box. The actions specified in this AD are intended to replace any incorrect circuit breaker installed in the MC01-3A main electrical power junction box, which could result in premature tripping of the power junction box main feeder circuit breakers and could lead to partial or complete loss of all electrical power on the airplane. This condition could lead to the loss of all navigation and communication equipment and lighting in the cockpit.

What Must I Do To Address This Problem?

(e) To address this problem, you must do the following:

Actions | Compliance | Procedures
(1) Inspect any MC01-3A I.C. 9 (part number (P/N) S3100-297) or MC01-3A I.C. 10 (P/N S3100-344) main electrical power junction box for any incorrect amperage (amp) circuit beaker installed in place of the required 40-amp circuit breakers | Within the next 30 days after August 9, 2005 (the effective dated date of this AD), unless already done | Follow Cessna Service Bulletin No. SB05-24-01, January 31, 2005.
(2) Replace any incorrect amp circuit breaker with the required 40-amp circuit breaker | Before further flight after the inspection required by paragraph (e)(1) of this AD | Follow Cessna Service Bulletin No. SB05-24-01, dated January 31, 2005.
(3) Only install in any MC01-3A I.C. 9 (P/N S3100-297) or MC01-3A I.C. 10 (P/N S3100-344) main electrical power junction box the required 40-amp circuit breakers | As of August 9, 2005 (the effective date of this AD) | Not Applicable.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Jose Flores, Aerospace Engineer, Wichita ACO, FAA, 1801 Airport Road, Wichita, Kansas 67209; telephone: (316) 946-4133; facsimile: (316) 946-4107.

May I Obtain a Special Flight Permit for the Initial Inspection Requirement of This AD?

(g) Yes, special flight permits are allowed per 14 CFR 39.19 provided airplane operations are limited to Day and/or visual flight rules (VFR) flight.

Does This AD Incorporate Any Material by Reference?

(h) You must do the actions required by this AD following the instructions in Cessna Service Bulletin No. SB05-24-01, dated January 31, 2005. The Director of the Federal Register approved the incorporation by reference of this service bulletin in accordance with 5 U.S.C. 552(a) and 1 CFR part 51. To get a copy of this service information, contact Cessna Aircraft Company, Product Support, P.O. Box 7706, Wichita, Kansas 67277; telephone: (316) 517-5800; facsimile: (316) 942-9006. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-20438; Directorate Identifier 2005-CE-03-AD.

Issued in Kansas City, Missouri, on June 14, 2005.
John R. Colomy,
Acting Manager, Small Airplane Directorate, Aircraft Certification Service.

[FR Doc. 05-12175 Filed 6-21-05; 8:45 am]

BILLING CODE 4910-13-P